DEPARTMENT OF HEALTH AND HUMAN SERVICES

Office of Inspector General

Program Exclusions: March 2005

AGENCY: Office of Inspector General, HHS.

ACTION: Notice of program exclusions.

During the month of March 2005, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
PROGRAM-RELATED CONVICTIONS
ALLEN, SHARON | 4/20/2005
LIVINGSTON, TN
ARTHUR C O'BRIEN MD, INC | 4/20/2005
HAYWARD, CA
AUGUSTINE, SCOTT | 4/20/2005
BLOMMINGTON, MN
BAINBRIDGE MANAGEMENT | 4/20/2005
CHICAGO, IL
BEILHARZ, JOYCE | 4/20/2005
HILLIARD, OH
BENHAM, JAMES | 4/20/2005
NORTH OAKS, MN
BLUE, FELICIA | 4/20/2005
DUNN, NC
BRADDOCK MANAGEMENT LP | 4/20/2005
CHICAGO, IL
CHEATAM, MARION | 4/20/2005
REYNOLDSBURY, OH
CORRAI, ANNIE | 4/20/2005
MARYSVILLE, OH
CORRAL, EDMOND | 4/20/2005
LOS ANGELES, CA
CUBRIA, ANDREW | 4/20/2005
LISBON, OH
DIAZ, BLAS | 4/20/2005
LOS ANGELES, CA
EDOHO-UKWA, ANIETIE | 4/20/2005
MCKINNEY, TX
EDOHO-UKWA, UKWA | 4/20/2005
FRISCO, TX
ELLIS, CRISTINA | 4/20/2005
FONTANA, CA
FLEISCHER, MARK | 4/20/2005
OTISVILLE, NY
FOREMAN, PAUL | 4/20/2005
COLUMBIA, MO
GARADA, HAZEM | 4/20/2005
MORGANTOWN, WV
GRAYSON, CYNTHIA | 4/20/2005
BATON ROUGE, LA
GREENWALD, BRUCE | 4/20/2005
ST LOUIS, MO
HEALTH CARE 2000, INC | 4/20/2005
CHAVIES, KY
HOWARD, ANNIESA | 4/20/2005
REYNOLDSBURG, OH
J & J SLEEP, INC | 4/20/2005
NEW PORT RICHEY, FL
JAPSON, SUSANNE | 4/20/2005
BROOKHAVEN, NY
JETTER, RODNEY | 4/20/2005
CINCINNATI, OH
JORDAN, LAKESHA | 4/20/2005
SPENCER, NC
JUN, DINA | 4/20/2005
LONG BEACH, CA
KARKOTSYAN, KIRAKOS | 4/20/2005
LONG BEACH, CA
KINGEN, JACK | 4/20/2005
NEW PORT RICHEY, FL
KIRPICHYAN, HAKOP | 4/20/2005
VAN NUYS, CA
KLEBER, PENNI | 4/20/2005
PORTLAND, OR
KOPP, RUTH | 4/20/2005
EDELSTEIN, IL
KRAJIAN, JOHN | 4/20/2005
BEVERLY HILLS, CA
KUYKENDALL, PAMELA | 4/20/2005
COOS BAY, OR
LATONN, EDWARD | 4/20/2005
BEAR, DE
LATONN, JANICE | 4/20/2005
BEAR, DE
LEW, BARRY | 4/20/2005
CHINO, CA
LOS ANGELES HEALTH SERVICES, INC | 4/20/2005
LYNWOOD, CA
MAHONEY, JAMES | 4/20/2005
KINGSTON, NY
MALKIN, WALTER | 6/10/2004
GIRARD, OH
MARDEN, PHYLLIS | 4/20/2005
BULLARD, TX
MAXIMILIANO, MONICA | 4/20/2005
WEST COVINA, CA
MENDEZ, THOMAS | 4/20/2005
MONTGOMERY, PA
NICHOLS, HEATHER | 4/20/2005
MAGADORE, OH
PLASENCIA, ZUBIN | 4/20/2005
WEST COVINA, CA
PRISAMT, ROBERT | 4/20/2005
SAN FRANCISCO, CA
QUAYLE, LYNETTE | 4/20/2005
RIVERTON, WY
RAMASWAMY, TRIVANDRUM | 4/20/2005
PLAINFIELD, IN
RODRIGUEZ, MANUEL | 4/20/2005
MIAMI, FL
ROMERO, GRACIELA | 4/20/2005
EL MONTE, CA
ROMO, JULIO | 4/20/2005
ARCADIA, CA
SAMPER, MYRA | 4/20/2005
PHILADELPHIA, PA
SANTOS, JORGE | 4/20/2005
MIAMI, FL
SCHEXNAYDER, ERNEST | 4/20/2005
FRESNO, CA
SHELLUM, ANGELA | 4/20/2005
SOUTH ST PAUL, MN
SIMS, GLADYS | 4/20/2005
COLDWATER, MS
STOKES, DARTHA | 4/20/2005
WAUPON, WI
TAYLOR-GIVENS, LYNNETTE | 4/20/2005
HEPHZIBAH, GA
THOMAS, CHRISTINE | 4/20/2005
CENTEREACH, NY
VIDMAR, LISA | 4/20/2005
OKAWVILLE, IL
VITA, SHARMAN | 4/20/2005
S SALEM, NY
WARD, SHARON | 4/20/2005
SOUTH EUCLID, OH
WHITE, AMANDA | 4/20/2005
KIMBOLTON, OH
WIEGAND, DIANE | 4/20/2005
WOODSTOCK, NY
WILLIAMS, FREDDY | 4/20/2005
BUTNER, NC
ZANGL, DEBBIE | 11/2/2004
SUSSEX, WI
FELONY CONVICTION FOR HEALTH CARE FRAUD
BUSH, BELITA | 4/20/2005
PHILADELPHIA, PA
CHOQUETTE, STEPHEN | 4/20/2005
BURRIVILLE, RI
DURANTE, DEAN | 4/20/2005
ANTHONY, TX
ERVIN, CHERYL | 4/20/2005
HEATH, OH
FAHRENDORFF, SANDRA | 4/20/2005
COO RAPIDS, MN
FANARA, TIFFANY | 4/20/2005
MADISON, OH
FITE, SOPHIA | 4/20/2005
CANTON, OH
FOGARTY, KIM | 4/20/2005
MADISON, OH
FULLER, CHARLEETA | 4/20/2005
TOPEKA, KS
GARDINER, LINDA | 4/20/2005
BEND, OR
HITE, KATHLEEN | 4/20/2005
MILTON, FL
HUFFMAN, GINA | 4/20/2005
RICHMOND HEIGHTS, OH
HUGHES, GRETCHEN | 4/20/2005
SIOUX FALLS, SD
INGHRAM, ROBERT | 4/20/2005
CHESTERLAND, OH
KANIESKI, EVA | 4/20/2005
WILLOUGHBY, OH
KENNEDY, JOHN | 4/20/2005
BOLIVAR, OH
MCGAVOCK, MAGGIE | 4/20/2005
NASHVILLE, TN
MILLER, KATHLEEN | 4/20/2005
HUNTSBURY, OH
NEUBERT, HAIDE | 4/20/2005
MENTOR, OH
OVERALL, SHANNON | 4/20/2005
CONCORD, NC
RAINVILLE, JOHN | 4/20/2005
OAKLAND PARK, FL
SAUNDERS, MICHELLE | 4/20/2005
MENTOR, OH
SCOTT, THOMAS | 4/20/2005
PORTSMOUTH, OH
SHEPHERD, JOSHUA | 4/20/2005
WHEELERSBURG, OH
SHEPHERD, SALLY | 4/20/2005
BELLE CENTER, OH
THOMAS, REBECCA | 4/20/2005
CLINTONVILLES, WI
VOLK, NANCY | 4/20/2005
TUCSON, AZ
WILLIAMS, LISA | 4/20/2005
MENTRO, OH
FELONY CONTROL SUBSTANCE CONVICTION
BURKHARDT, MELISSA | 4/20/2005
MARIETTA, PA
CANNATA, ROSETTA | 4/20/2005
OSPREY, FL
COHEN, PAUL | 4/20/2005
JACKSONVILLE, FL
EBERTOWSKI, MISTY | 4/20/2005
COUNCIL BLUFFS, IA
FALASCO, NORBERT | 4/20/2005
ORLANDO, FL
FIEDLER, SAMANTHA | 4/20/2005
LOVELAND, CO
GARRETT, MELONIE | 4/20/2005
BURLESON, TX
GREEN, WANDA | 4/20/2005
LITTLEROCK, AR
HOLMES, TAKEISHA | 4/20/2005
HUSTLE, VA
JUMPER, MELVA | 4/20/2005
MABANK, TX
MCNEAL, JENNIFER | 4/20/2005
LAKELAND, FL
PEPSAK, DEBORAH | 4/20/2005
CRAWFORDSVILLE, IN
PICKETT, ROGER | 4/20/2005
OKLAHOMA CITY, OK
PRENDERGAST, THOMAS | 4/20/2005
MORGANTOWN, WV
RHODES, CHERYL | 4/20/2005
FAIRBORN, OH
ROCHA, MARCO | 4/20/2005
NEW BEDFORD, MA
STEWART, LISA | 4/20/2005
WHITE LAKE, MI
TOOHIG, SUSAN | 4/20/2005
WILLOWWICK, OH
PATIENT ABUSE/NEGLECT CONVICTIONS
AYUEL, NHIAL | 4/20/2005
SYRACUSE, NY
BALANCIO, GEMMA | 4/20/2005
HONOLULU, HI
BALANCIO, JOE | 4/20/2005
HONOLULU, HI
BRATCHER, LEON | 4/20/2005
COLLEGEDALE, TN
BREWER, TOVI | 4/20/2005
ARLINGTON, TN
CAMPBELL, MAURICE | 4/20/2005
JACKSON, MS
CARPENTER, JERRETT | 4/20/2005
HENRYETTA, OK
CARROLL, STANLEY | 4/20/2005
JACKSONVILLE, FL
CRISTANTIELLO, KIMBERLY | 4/20/2005
PARMA, OH
CURTIS, TYNETTA | 4/20/2005
MILLSBORO, DE
GOMEZ, GABRIEL | 4/20/2005
COOLIDGE, AZ
GREEN, JACQUETTA | 4/20/2005
BALTIMORE, MD
GUIAO, LARRY | 4/20/2005
LEMON GROVE, CA
JOHNSON, TAMMY | 4/20/2005
ELIZABETH CITY, NC
LIVELY, STELLA | 4/20/2005
SHREVEPORT, LA
LOGAN, CHARLES | 4/20/2005
TAMPA, FL
MATHISON, LYNN | 4/20/2005
BRONXVILLE, NY
MCLENDON, DOROTHY | 4/20/2005
GULFPORT, MS
PARKHURST, MEGGAN | 4/20/2005
DUNCAN, OK
PAUL, AARON | 4/20/2005
PINEVILLE, LA
PAYNE, STEVEN | 4/20/2005
HOUSTON, TX
RIVAS, CHRISTINA | 4/20/2005
CORAM, NY
SALES, GEORGE | 4/20/2005
S SAN FRANCISCO, CA
VANCE, JACQUELINE | 4/20/2005
RIVERSIDE, OH
VOLLBRACHT, FAYE | 4/20/2005
WATER VALLEY, MS
WEST, AMBER | 4/20/2005
WATERVILLE, MN
WILLIAMS, NICOLE | 4/20/2005
CINCINNATI, OH
WILLIAMS, TIMOTHY | 4/20/2005
LARGO, FL
WILSON, CINDARETHA | 4/20/2005
JACKSON, MS
YONTZ, JUDY | 4/20/2005
SUMMERFIELD, OH
CONVICTION FOR HEALTH CARE FRAUD
SIMMONS, SYLVIA | 4/20/2005
OSSIAN, IN
SZEKELY, GEORGE | 4/20/2005
LANSDALE, PA
LICENSE REVOCATION/SUSPENSION/SURRENDERED
ALAAWAG, SAMANTHA | 4/20/2005
KITTERY, ME
ALATORRE, HOLIVIA | 4/20/2005
WHITTIER, CA
ALMEIDA, OSCAR | 4/20/2005
MOBILE, AL
AMEMIYA, TETSURO | 4/20/2005
CHICAGO, IL
APRAMIAN, LISA | 4/20/2005
SAN DIEGO, CA
ARREDONDO, CONNIE | 4/20/2005
TULARE, CA
BANKS, FRANCES | 4/20/2005
GARY, IN
BELISLE, CRISTY | 4/20/2005
DAVENPORT, FL
BERGER, GERALD | 4/20/2005
LEBANON, NH
BERRY, DENISE | 4/20/2005
BRATENAHL, OH
BLUE, DOROTHY | 4/20/2005
HIGH SPRINGS, FL
BROWN, GREGORY | 4/20/2005
LOUISVILLE, KY
CAMERON, DEANNA | 4/20/2005
WOLCOTT, VT
CHAMBERLIN, MATTHEW | 4/20/2005
FINDLAY, OH
CLAY, BRANDI | 4/20/2005
BLACK OAK, AR
COLASURDO, PAUL | 4/20/2005
DRUMS, PA
CORROW, CHRISTINE | 4/20/2005
LYNDONVILLE, VT
COURTNEY, LORIE | 4/20/2005
HINTON, OK
CRADLE, GWENDOLYN | 4/20/2005
HORSESHOE, NC
CRONISTER, LESLIE | 4/20/2005
FRAMINGHAM, MA
CROSS, VANESSA | 4/20/2005
BERWYN, IL
CRUZ, JOSE | 4/20/2005
MIAMI BEACH, FL
CURTO, FRANCISCO | 4/20/2005
NOVATO, CA
DANAHER, JOHN | 4/20/2005
SANTA ANA, CA
DECHAVEZ, JOEGRACIO | 4/20/2005
LAS VEGAS, NV
DEHENRE, MALACHY | 4/20/2005
BIRMINGHAM, AL
DELLING, CARRIE | 4/20/2005
DIAMOND SPRINGS, CA
DENNIS, BARBARA | 4/20/2005
MARBURY, AL
DRAKE-HOFFMAN, MONA | 4/20/2005
BRAZIL, IN
DUNCAN, DOROTHY | 4/20/2005
MOBILE, AL
FINN, KEITH | 4/20/2005
HYDE PARK, VT
FRAKES, PAMELA | 4/20/2005
RADCLIFF, KY
FRENCH, DEBRA | 4/20/2005
ROCHESTER, NY
GARCIA, LAURIE | 4/20/2005
PARADISE, CA
GONZALES, WENDI | 4/20/2005
SAN ANGELO, TX
GOSSAGE, TERRI | 4/20/2005
SUN CITY, AZ
GRIFFIN-COLLUM, DEBORAH | 4/20/2005
OLD SAYBROOK, CT
GUERRINI, KATHLEEN | 4/20/2005
BUZZARDS BAY, MA
HAHN, CYNDIE | 4/20/2005
ANDERSON, CA
HAISLUP, LINDA | 4/20/2005
COLUMBUS, IN
HAMMOND, GINA | 4/20/2005
EAST MOLINE, IL
HANSEN, VICTORIA | 4/20/2005
NACOGDOCHES, TX
HARMON, EVANGELINE | 4/20/2005
MENDOTA, IL
HARRIS, STEVEN | 4/20/2005
EVERETT, WA
HAWKINS, RENEE | 4/20/2005
LAS VEGAS, NV
HAWKINS, RICHARD | 4/20/2005
FITCHBURG, MA
HELLMAN, EVELYN | 4/20/2005
PAHRUMP, NV
JACKSON, LISA | 4/20/2005
ASHLAND, KY
JOHNSON, DENISE | 4/20/2005
DENVILLE, NJ
JOHNSON, SHIRLEY | 4/20/2005
ROBERTSDALE, AL
JONES, LINDA | 4/20/2005
EVANSVILLE, IN
KAMAL, HOSSAM | 4/20/2005
BURR RIDGE, IL
KELLY, DAVID | 4/20/2005
BOULDER CREEK, CA
KOBYLARZ, DAWN | 4/20/2005
AMESBURY, MA
KRISHNANAIK, DHANALAL | 4/20/2005
CLOQUET, MN
LAMPLEY, ASHLEY | 4/20/2005
LEDBETTER, KY
LANE, IRENE | 4/20/2005
LOWELL, MA
LITTLE, MARCIA | 4/20/2005
CHESTER, MA
MANNO, ANTHONY | 4/20/2005
MONTROSE, PA
MARRET, HELENE | 4/20/2005
LAS VEGAS, NV
MASCARENAS, ANTONIO | 4/20/2005
HAYWARD, CA
MELCHOR, JORGE | 4/20/2005
STANTON, CA
MERRILL, THOMAS | 4/20/2005
APALACHICOLA, FL
MINNER, ZAIRE | 4/20/2005
PHOENIX, AZ
MITCHELL, WALTER | 4/20/2005
SPRINGFIELD, MA
MONSUE, JOHN | 4/20/2005
MCEWEN, TN
MOORE, LUCIAN | 4/20/2005
PUYALLUP, WA
MORALES, JESUS | 4/20/2005
SANTA CLARE, CA
MORGAN, VERNELL | 4/20/2005
HICKORY, NC
MURPHY, STEPHEN | 4/20/2005
ANDOVER, MA
MUSA, ROBERT | 4/20/2005
MINNEAPOLIS, MN
NIZNIK, ROBERT | 4/20/2005
MINOOKA, IL
NOYES, JULIANNE | 4/20/2005
ATHOL, MA
O'HARA, MEGAN | 4/20/2005
LAKE WORTH, FL
ODUM, WENDY | 4/20/2005
ARARAT, VA
OLDHAM, VERNON | 4/20/2005
DETROIT, MI
PATSCH, MICHAEL | 4/20/2005
HOUSTON, TX
PAVLUS, MARILYN | 4/20/2005
ROCKY RIVER, OH
PENA, MARY | 4/20/2005
ESCONDIDO, CA
PIATAK, MICHELLE | 4/20/2005
BEDFORD, OH
PROWS, TARA | 4/20/2005
SALT LAKE CITY, UT
PRZADOWSKA-KOKINDA, ELIZABETH | 4/20/2005
PRINCETON, NJ
ROBERTS, BETTIE | 4/20/2005
INDIANAPOLIS, IN
ROBERTS, MARY | 4/20/2005
RICHMOND, IN
RODRIGUEZ, CARMEN | 4/20/2005
ONTARIO, CA
ROSSETSKY, JAMES | 4/20/2005
NORWOOD, MA
RYAN, RUBY | 4/20/2005
JOHNSON CITY, TX
SANCHEZ, SERAFIN | 4/20/2005
HIALEAH, FL
SCOTT, TRACY | 4/20/2005
CHATTANOOGA, TN
SEIDEL, TARA | 4/20/2005
DAYTON, OH
SEMICH, MARY | 4/20/2005
LINDALE, TX
SHAW, GLENWOOD | 4/20/2005
GORHAM, ME
SHIN, SANG | 4/20/2005
HAWTHORNE, CA
SHUTES, KIMBERLY | 4/20/2005
WATERTOWN, TN
SORNSIN, JAMES | 4/20/2005
CULLMAN, AL
STEPHENS, APRIL | 4/20/2005
WEST MILTON, OH
SWANSON, FRANCES | 4/20/2005
PLANTATION, FL
TAYLOR, FAYE | 4/20/2005
DAYTON, OH
UNDERWOOD, JAMES | 4/20/2005
VINTON, VA
VAN ZANDT, JESSICA | 4/20/2005
ANAHEIM, CA
VINTSON, TIFFANY | 4/20/2005
CORDOVA, AL
WAINWRIGHT, ALLISON | 4/20/2005
PORTLAND, ME
WALSH, KEVIN | 4/20/2005
TEMPE, AZ
WATSON, LAWRENCE | 4/20/2005
PEORIA, IL
WEAVER, DENNIS | 4/20/2005
LORAIN, OH
WEBER, PAUL | 4/20/2005
LAKE WORTH, FL
WEDGE, PAM | 4/20/2005
ZEPHYRHILLS, FL
WILMARTH, EUGENE | 4/20/2005
N HOLLYWOOD, CA
WOODS, THOMAS | 4/20/2005
BRAINTREE, MA
WRIGHT, MARY | 4/20/2005
SCOTTSDALE, AZ
WYNN, MARTHA | 4/20/2005
CARROLLTON, TX
YARBROUGH, RICHELLE | 4/20/2005
EVERETT, WA
FRAUD/KICKBACKS/PROHIBITED ACTS/SETTLEMENT AGREEMENTS
ALL-DADE HEATLH CARE, INC | 8/10/2004
MIAMI, FL
CALISE, GAETANO | 3/4/2004
N PROVIDENCE, RI
CARE FIRST MEDICAL CENTER, INC | 8/10/2004
CORAL GABLES, FL
DE LOS REYES, RUBEN | 8/10/2004
MIAMI, FL
JENKINS, BRIAN | 12/22/2003
SCOTT CITY, KS
MARTINEZ, CARLOS | 8/10/2004
MIAMI, FL
MARTINEZ, LUIS | 8/10/2004
MIAMI, FL
REYES, JOSEFA | 8/10/2004
MIAMI, FL
REYES, RUBEN | 8/10/2004
MIAMI, FL
RODRIGUEZ, ARTURO | 8/10/2004
MIAMI, FL
RODRIGUEZ, MARTHA | 8/10/2004
MIAMI, FL
SOLANO, RAFAEL | 8/27/2004
MIAMI, FL
WINTERS, STEPHEN | 4/20/2005
MEMPHIS, TN
OWNED/CONTROLLED BY CONVICTED ENTITIES
ANESTHESIA CONSULTANTS | 4/20/2005
CAPE CORAL, FL
ARCADIA KIDS DENTAL CARE | 4/20/2005
ARCADIA, CA
CORRECTIVE SKIN AND VEIN CENTER, INC | 4/20/2005
OKLAHOMA CITY, OK
CRAIG MARKS, PA | 4/20/2005
WESTON, FL
GENESYS MEDICAL EQUIPMENT | 4/20/2005
FRISCO, TX
GRACE INTERNATIONAL MEDICAL SUPPLIES, INC | 4/20/2005
MCKINNEY, TX
GRACE MEDICAL SERVICES | 4/20/2005
MCKINNEY, TX
GULF SHORE ANESTHESIA, PA | 4/20/2005
FT MYERS, FL
J A CRUZ, MD, PA | 4/20/2005
MIAMI, FL
KNJ GROUP, INC | 4/20/2005
CALABASA, CA
MARK R HAKANSON, DDS, INC | 4/20/2005
ARCADIA, CA
NATIONAL SPINE MEDICAL CENTERS PLLC | 4/20/2005
KINGWOOD, TX
PERFECT HEALTH & BEAUTY CLINIQUE | 4/20/2005
OSPREY, FL
ROGER LEE PICKETT LIMITED PARTNERSHIP #2 | 4/20/2005
OKLAHOMA CITY, OK
ROGER LEE PICKETT MD, INC | 4/20/2005
OKLAHOMA CITY, OK
ROSETTA V CANNATA, MD, PA | 4/20/2005
TAMPA, FL
SOLUTIONS MULTISPECIALTY SURGICAL CTR, A MEDICAL CORP | 4/20/2005
BEVERLY HILLS, CA
TARZANA GARDEN OB/GYN MEDICAL GROUP, A MEDICAL CORP | 4/20/2005
TARZANA, CA
US MEDICAL SUPPLY, INC | 4/20/2005
LA CRESCENTA, CA
DEFAULT ON HEAL LOAN
ABTAHI, HOSSEIN | 4/20/2005
CUPERTINO, CA
BUSSE, DAVID | 4/20/2005
DENVER, CO
FOX, CARL | 4/20/2005
DANA POINT, CA
HERRING, RAYMOND | 4/20/2005
GUILFORD, CT

Dated: April 4, 2005.
Katherine B. Petrowski,
Director, Exclusions Staff, Office of Inspector General.

[FR Doc. 05-7364 Filed 4-12-05; 8:45 am]

BILLING CODE 4150-04-P